DEPARTMENT OF HEALTH AND HUMAN SERVICES

National Institutes of Health

Request for Information on the Proposed Framework for Developing Study Content and Protocols for the National Children's Study (NCS); Correction

The Eunice Kennedy Shriver National Institute of Child Health and Human Development and National Children's Study published a Request for Information on the Proposed Study Content Framework in the Federal Register on January 23, 2014 (79 FR 3840) (https://www.federalregister.gov/articles/2014/01/23/2014-01339/request-for-information-on-the-proposed-framework-for-developing-study-content-and-protocols-for-the). The document incorrectly listed Dr. Dean Coppola as the Acting Director of the National Children's Study. On the day of the posting, he was acting in Dr. Steven Hirschfeld's absence. Dr. Hirschfeld remains the Director of the National Children's Study, and Dr. Coppola is the Deputy Director. We regret any misunderstanding this might have caused.

Dated: January 31, 2014.
Angelee Mullins,
Federal Register Liaison, National Institutes of Health.

[FR Doc. 2014-02450 Filed 2-5-14; 8:45 am]

BILLING CODE 4140-01-P